FEDERAL RESERVE SYSTEM

Agency Information Collection Activities: Proposed Collection; Comment Request

AGENCY: Board of Governors of the Federal Reserve System.

ACTION: Notice.

SUMMARY:

Background

June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-I's and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposals

The following information collection, which is being handled under this delegated authority, has received initial Board approval and is hereby published for comment. At the end of the comment period, the proposed information collection, along with an analysis of comments and recommendations received, will be submitted to the Board for final approval under OMB delegated authority. Comments are invited on the following:

a. whether the proposed collection of information is necessary for the proper performance of the Federal Reserve's functions; including whether the information has practical utility;

b. the accuracy of the Federal Reserve's estimate of the burden of the proposed information collection, including the validity of the methodology and assumptions used;

c. ways to enhance the quality, utility, and clarity of the information to be collected; and

d. ways to minimize the burden of information collection on respondents, including through the use of automated collection techniques or other forms of information technology.

DATES: Comments must be submitted on or before September 30, 2002.

ADDRESSES: Comments should be mailed to Ms. Jennifer J. Johnson, Secretary, Board of Governors of the Federal Reserve System, 20th Street and Constitution Avenue, NW., Washington, DC 20551, or mailed electronically to regs.comments@federalreserve.gov. Comments addressed to Ms. Johnson may also be delivered to the Board's mail facility in the West Courtyard between 8:45 a.m. and 5:15 p.m., located on 21st Street between Constitution Avenue and C Street, N.W. Members of the public may inspect comments in Room MP-500 of the Martin Building between 9:00 a.m. and 5:00 p.m. on weekdays pursuant to § 261.12, except as provided in § 261.14, of the Board's Rules Regarding Availability of Information, 12 CFR 261.12 and 261.14.

A copy of the comments may also be submitted to the OMB desk officer for the Board: Joseph F. Lackey, Office of Information and Regulatory Affairs, Office of Management and Budget, New Executive Office Building, Room 10235, Washington, DC 20503.

FOR FURTHER INFORMATION CONTACT: A copy of the proposed form and instructions, the Paperwork Reduction Act Submission (OMB 83-I), supporting statement, and other documents that will be placed into OMB's public docket files once approved may be requested from the agency clearance officer, whose name appears below.Mary M. West, Federal Reserve Board Clearance Officer (202-452-3829), Division of Research and Statistics, Board of Governors of the Federal Reserve System, Washington, DC 20551. Telecommunications Device for the Deaf (TDD) users may contact Capria Mitchell (202) 872-4984, Board of Governors of the Federal Reserve System, Washington, DC 20551.

Proposal to Approve Under OMB Delegated Authority to Revise, Without Extension, The Following Reports:

Report title: Financial Statements for Bank Holding Companies

Agency form number: FR Y-9C, FR Y-9LP, FR Y-9SP, and FR Y-9CS

OMB control number: 7100-0128

Frequency: Quarterly and semiannually

Reporters: Bank holding companies (BHCs)

Annual reporting hours: 321,581 hours

Estimated average hours per response: FR Y-9C: 33.98 hours, FR Y-9LP: 4.55 hours, FR Y-9SP: 3.89 hours, FR Y-9CS: 30 minutes, FR Y-9ES: 30 minutes

Number of respondents: FR Y-9C: 1,859, FR Y-9LP: 2,193, FR Y-9SP: 3,566, FR Y-9CS: 600; FR Y-9ES: 100

Small businesses are affected.

General description of report: This information collection is mandatory (12 U.S.C. 1844(c)). Confidential treatment is not routinely given to the data in these reports. However, confidential treatment for the reporting information, in whole or in part, can be requested in accordance with the instructions to the form.

Abstract: The FR Y-9C consists of standardized consolidated financial statements similar to the Federal Financial Institutions Examination Council (FFIEC) Consolidated Reports of Condition and Income (Call Reports) (FFIEC 031 & 041; OMB No.7100-0036). The FR Y-9C is filed quarterly by top-tier bank holding companies that have total assets of $150 million or more and by lower-tier bank holding companies that have total consolidated assets of $1 billion or more. In addition, multibank holding companies with total consolidated assets of less than $150 million with debt outstanding to the general public or engaged in certain nonbank activities must file the FR Y-9C.

The FR Y-9LP includes standardized financial statements filed quarterly on a parent company only basis from each bank holding company that files the FR Y-9C. In addition, for tiered bank holding companies, a separate FR Y-9LP must be filed for each lower tier bank holding company.

The FR Y-9SP is a parent company only financial statement filed semiannually by one-bank holding companies with total consolidated assets of less than $150 million, and multibank holding companies with total consolidated assets of less than $150 million that meet certain other criteria. This report, an abbreviated version of the more extensive FR Y-9LP, is designed to obtain basic balance sheet and income statement information for the parent company, information on intangible assets, and information on intercompany transactions.

The FR Y-9CS is a free form supplement that may be utilized to collect any additional information deemed to be critical and needed in an expedited manner. It is intended to supplement the FR Y-9C and FR Y-9SP reports.

Current actions: The Federal Reserve proposes to implement the Financial Statements for Employee Stock Ownership Plan Bank Holding Companies (FR Y-9ES) for BHCs that are Employee Stock Ownership Plans (ESOPs) that currently submit either the FR Y-9LP or the FR Y-9SP. The proposed FR Y-9ES form, because it is more consistent with the ESOP's current reporting requirements for other purposes, should significantly lower burden for those ESOPs that currently file the FR Y-9LP or FR Y-9SP. Additionally, data collected on the FR Y-9ES would more accurately reflect the ESOP's financial condition and therefore complement the data collected on the consolidated statements (FR Y-9C).

The proposed new report draws upon aspects of (1) the IRS Form 5500 Annual Return/Report of Employee Benefit Plan filed by ESOPs, (2) requirements found in the AICPA's Audit Guide for Employee Benefits Plans, (3) Statement of Position No. 76-3 Accounting Practices for Certain Employee Stock Ownership Plans, (4) Statement of Position No. 93-6 Employers' Accounting for Employee Stock Ownership Plans, and (5) other publications relating to ESOPs.

This report would be filed annually by approximately 100 Employee Stock Ownership Plans (ESOPs) that are considered bank holding companies. Bank holding companies that are subsidiaries of ESOP BHCs will continue to submit the FR Y-9C, FR Y-9LP, or FR Y-9SP in accordance with the appropriate reporting requirements.

The proposed FR Y-9ES would be a three-page form that would collect information on the benefit plan activities made by ESOP BHCs. There are four schedules on the FR Y-9ES: Statement of Changes in Net Assets Available for Benefits, Statement of Net Assets Available for Benefits, Memoranda, and Notes to the Financial Statements.

The annual FR Y-9ES would be collected as of December 31 and submitted to the Federal Reserve by July 31. The Federal Reserve is considering granting extensions if the respondent has been granted an extension for filing their IRS/DOL Form 5500. The IRS allows institutions to extend their submission until October 15, by submitting Form 5558 on or before July 31. The respondent would be required to send a copy of their Form 5558 to the appropriate Reserve Bank by July 31. The Federal Reserve is specifically seeking comment on the proposed deadline for the FR Y-9ES.

Board of Governors of the Federal Reserve System, July 24, 2002.
Jennifer J. Johnson,
Secretary of the Board.

[FR Doc. 02-19111 Filed 7-29-02; 8:45 am]

BILLING CODE 6210-01-S